DEPARTMENT OF COMMERCE

International Trade Administration

A-570-875

Extension of Time Limit for the Final Results of the Antidumping Duty Administrative Review: Non-Malleable Cast Iron Pipe Fittings from the People's Republic of China

AGENCY: Import Administration, International Trade Administration, Department of Commerce.

EFFECTIVE DATE: September 12, 2006.

FOR FURTHER INFORMATION CONTACT: Eugene Degnan, AD/CVD Operations, Office 8, Import Administration, International Trade Administration, U.S. Department of Commerce, 14th Street and Constitution Avenue, NW, Washington, DC 20230; telephone: (202) 482-0414.

SUPPLEMENTARY INFORMATION:

Background

On May 25, 2006, the Department published in the Federal Register its preliminary results of the second administrative review on non-malleable cast iron pipe fittings from the People's Republic of China (“PRC”). See Non-Malleable Cast Iron Pipe Fittings from the People's Republic of China: Preliminary Results of Antidumping Duty Administrative Review, 71 FR 30116 (May 25, 2006) (“Preliminary Results”). The final results of this administrative review are currently due no later than September 22, 2006.

Extension of Time Limit of Final Results

Section 751(a)(3)(A) of the Tariff Act of 1930, as amended (“the Act”), requires the Department to issue final results within 120 days of the date on which the preliminary results are published. However, if it is not practicable to complete the review within this time period, section 751(a)(3)(A) of the Act allows the Department to extend the extend the 120-day period to a maximum of 180 days. Completion of the final results of this review within the 120-day period is not practicable because the Department needs additional time to evaluate substantially intricate issues raised by the petitioners and respondents in their respective case briefs and rebuttals.

Because it is not practicable to complete this review within the time specified under the Act, we are extending the time period for issuing the final results of review by 30 days until October 22, 2006, in accordance with section 751(a)(3)(A) of the Act. Further, because October 22, 2006, falls on a Sunday, the final results will be due on October 23, 2006, the next business day. This notice is published pursuant to sections 751(a) and 777(i) of the Act.

Dated: September 5, 2006.
Stephen J. Claeys,
Deputy Assistant Secretary for Import Administration.

[FR Doc. E6-15099 Filed 9-11-06; 8:45 am]

BILLING CODE 3510-DS-S